DEPARTMENT OF VETERANS AFFAIRS

Advisory Committee on Homeless Veterans; Notice of Meeting

The Department of Veterans Affairs (VA) gives notice under Public Law 92-463 (Federal Advisory Committee Act) that a meeting of the Advisory Committee on Homeless Veterans will be held May 18-20, 2011, in the Harbor View Room at the Best Western Bay Harbor Hotel, 7700 Courtney Campbell Causeway, Tampa, Florida. The meeting will be held from 8 a.m. to 4 p.m. and is open to the public.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

The agenda will include briefings from VA and other officials regarding services for homeless Veterans. The Committee will also discuss final preparation of its upcoming annual report and recommendations to the Secretary.

No time will be allocated for receiving oral presentations from the public. However, members of the public may submit written statements for review by the Committee to Mr. Pete Dougherty, Designated Federal Officer, at the Department of Veterans Affairs, Homeless Veterans Program Office (075D), 810 Vermont Avenue, NW., Washington, DC 20420, or e-mail at Homeless.Vets@va.gov. Any member of the public wishing to attend the meeting should contact Mr. Dougherty at (202) 461-1857.

Dated: April 25, 2011.
By Direction of the Secretary.
William F. Russo,
Director of Regulations Management, Office of General Counsel.

[FR Doc. 2011-10371 Filed 4-28-11; 8:45 am]

BILLING CODE P